FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 4, 2003.

A. Federal Reserve Bank of St. Louis (Randall C. Sumner, Vice President) 411 Locust Street, St. Louis, Missouri 63166-2034:

1. The Mike Wilson Descendents' Trust, Jacksonville, Arkansas, to increase its control of First Arkansas Bancshares, Inc., Jacksonville, Arkansas (“Bancshares”). In addition, Larry T. Wilson, Michael K. Wilson, Kathryn W. Roberts, the Kenneth Pat Wilson Annual Gift Trust, the Larry Timothy Wilson Annual Gift Trust, the Kathryn Patricia Wilson Roberts Annual Gift Trust, the Michael K. Wilson Annual Gift Trust, and The Mike Wilson Descendents' Trust, all of Jacksonville, Arkansas, have applied to retain control of Bancshares.

B. Federal Reserve Bank of Minneapolis (Richard M. Todd, Vice President and Community Affairs Officer) 90 Hennepin Avenue, Minneapolis, Minnesota 55480-0291:

1. Gale Mark Hoese, David Kurt Hoese, and Terry Clayton Hoese, all of Glencoe, Minnesota, and Todd Curtis Hoese, Waconia, Minnesota; to acquire control of Commercial Bancshares, Inc., Bloomington, Minnesota, and thereby indirectly acquire control of First Commercial Bank, Bloomington, Minnesota.

Board of Governors of the Federal Reserve System, August 15, 2003.
Robert deV. Frierson,
Deputy Secretary of the Board.

[FR Doc. 03-21394 Filed 8-20-03; 8:45 am]

BILLING CODE 6210-01-S